OFFICE OF SCIENCE AND TECHNOLOGY POLICY

Call for Public Comment on the Draft U.S. Global Change Research Program (USGCRP) Decadal Strategic Plan, 2022-2031

AGENCY: Office of Science and Technology Policy (OSTP).

SUMMARY: The U.S. Global Change Research Program (USGCRP), in collaboration with the Office of Science and Technology Policy (OSTP), requests comment from the public on its draft Decadal Strategic Plan.

DATES: Interested persons and organizations are invited to submit comments before 11:59 p.m. ET, 15 July 2022.

ADDRESSES: Submit comments electronically via the USGCRP R&C System (https://review.globalchange.gov) by the deadline. Due to time constraints, mailed paper submissions will not be accepted. The review system will be taken off-line at close of the review window, so there will be no means to submit late comments.

Instructions: Response to this notice is voluntary. Responses to this notice may be used by the government for program planning on a non-attribution basis. OSTP therefore requests that no business proprietary information or copyrighted information be submitted in response to this notice. Please note that the U.S. Government will not pay for response preparation, or for the use of any information contained in the response.

FOR FURTHER INFORMATION CONTACT: Direct technical questions to David Dokken (Senior Program Officer) at ddokken@usgcrp.gov. Process concerns should be addressed to Michael Kuperberg (USGCRP Executive Director) at mkuperberg@usgcrp.gov.

SUPPLEMENTARY INFORMATION: With the implementation phase of USGCRP's previous plan winding down (https://downloads.globalchange.gov/strategic-plan/2012/usgcrp-strategic-plan-2012.pdf), work began on a successor in the spring of 2021. The National Science and Technology Council provided USGCRP with guidance to produce a plan that was short (30 pages) and accessible to an informed lay reader. In pursuit of a high-level, non-technical narrative, over the past year, inputs were solicited from USGCRP member agencies and interagency working groups, as well as external organizations such as the National Academies of Sciences, Engineering, and Medicine (NASEM). Listening sessions were conducted within the Federal community and via NASEM external outreach on the Program's behalf. Public comment on a draft prospectus was sought (22 November 2021-11 January 2022) to determine if the overall vision resonated with intended audiences and if the identified strategic pillars adequately established near-term priorities while providing the flexibility to address longer term challenges. The draft narrative is now being provided both to the public and to NASEM to seek input.

USGCRP seeks feedback on program priorities and accompanying narrative in the strategic pillar sections. Respondents should consider (i) ideas on emerging, large-scale scientific questions related to global change and/or response, especially those where interagency collaboration will be critical; (ii) specific information on how science is or is not being used to inform societal response to climate change, and why; and (iii) knowledge gaps and obstacles to implementing scientific tools or knowledge.

Individuals wishing to participate in the public review of the draft 2022-2031 USGCRP Strategic Plan are encouraged to register via the USGCRP Review and Comment (R&C) System (https://review.globalchange.gov). The document and instructions are available from 20 May to 15 July 2022.

The U.S. Global Change Research Program (USGCRP) coordinates research across 13 Federal agencies to understand the human-induced and natural processes that influence the total Earth system—the atmosphere, land, water, ecosystems, and people. USGCRP was established by Presidential Initiative in 1989 and mandated by Congress in the Global Change Research Act (GCRA) of 1990 (Sec 104, Pub. L. 101-606; https://www.globalchange.gov/about/legal-mandate). The GCRA calls for a 10-year plan with periodic updates. More detail on USGCRP strategic planning processes to date can be found at https://www.globalchange.gov/engage/process-products/strategic-planning. USGCRP builds on a foundation of Federal investments in research and development to ensure that America leads in basic and applied global change research.

The draft Plan was prepared and vetted by Federal agency officials comprising the Subcommittee on Global Change Research (SGCR), which provides overall direction and executive oversight of the Program. SGCR, whose membership includes representatives of scientific and implementing agencies, is a standing body of the Committee on Environment, a component of the National Science and Technology Council.

Dated: May 19, 2022.
Stacy Murphy,
Operations Manager.

[FR Doc. 2022-11108 Filed 5-25-22; 8:45 am]

BILLING CODE 3270-F1-P